DEPARTMENT OF TRANSPORTATION

Federal Aviation Administration

[Docket No. FAA-2021-0984]

Agency Information Collection Activities: Requests for Comments; Clearance of Renewed Approval of Information Collection: Application for Pilot School Certification

AGENCY: Federal Aviation Administration (FAA), DOT.

ACTION: Notice and request for comments.

SUMMARY: In accordance with the Paperwork Reduction Act of 1995, FAA invites public comments about our intention to request Office of Management and Budget (OMB) approval to renew an information collection. The collection involves filling out the Application for a Pilot School Certification form and submitting this form to the Federal Aviation Administration (FAA). The information to be collected is necessary because an applicant for a pilot school must receive the FAA Administrator's approval for the issuance of a pilot school certificate. We have revised the name of this information collection for consistency with FAA form 8420-8, Application for Pilot School Certification. We have also updated the number of pilot schools

DATES: Written comments should be submitted by December 27, 2021.

ADDRESSES: Please send written comments to:

By Electronic Docket: www.regulations.gov (Enter docket number into search field).

By Mail: Jean M. Hardy, General Aviation and Commercial Division, Training and Certification Group, AFS 810, Portland Flight Standards District Office, 82 Running Hill Road, Suite 300, South Portland, Maine 04106.

FOR FURTHER INFORMATION CONTACT: Jean M. Hardy, by email at Jean.Hardy@faa.gov; phone: 207-289-7287.

SUPPLEMENTARY INFORMATION:

Public Comments Invited: You are asked to comment on any aspect of this information collection, including (a) whether the proposed collection of information is necessary for FAA's performance; (b) the accuracy of the estimated burden; (c) ways for FAA to enhance the quality, utility and clarity of the information collection; and (d) ways the burden could be minimized without reducing the quality of the collected information. The agency will summarize and/or include your comments in the request for OMB's clearance of this information collection.

OMB Control Number: 2120-0009.

Title: Application for Pilot School Certification.

Form Numbers: 8420-8.

Type of Review: This is a renewal of an information collection.

Background: The information on FAA From 8420-8, Application for Pilot School Certification, is required from applicants who wish certification as a pilot school with the associated ratings, or who wish to renew their pilot school certification. On previous renewals, the title of this information collection and notice was “Pilot Schools—FAR 141”. We have revised the name of this information collection as the term “FAR” is no longer used to reference aviation regulations. Because of this change, and to add clarity, we are using the name of the FAA form 8420-8, Application for Pilot School Certification. Pilot schools are mandated to report information to the FAA and to keep specific records. Pilot schools train private, commercial, flight instructor, and airline transport pilots, along with training for associated ratings in various types of aircraft. The FAA form 8240-8 is necessary to assure continuing compliance with part 141, renewal of pilot school certificates every 24 months, and for any amendments to pilot school certificates.

The FAA is also making a burden adjustment to the number of pilot schools. Currently, this number is 527. We estimate 31 new applications for an original certification annually from applicants for a pilot school certificate. We estimate 263 applications for renewal annually. This figure represents approximately half of the current 527 certificated pilot schools.

Respondents: Respondents include new applications, renewals of the pilot school certification, and amendments to an existing pilot school.

Frequency: Every 24 months certificated pilot schools must renew their pilot school certification.

Estimated Average Burden per response: We anticipate 31 new applications at a rate of 0.5 hours for a total of 15.5 hours. We also anticipate 263 applications for renewals at a rate of 0.5 hours for a total of 131.5 hours. Additionally, we estimate 20 applications for an amendment to their pilot school certificate at a rate of 0.5 hours for a total burden of 10.0 hours.

Estimated Total annual Burden: The cumulative total burden is estimated to be 157 hours per year.

Issued in Washington, DC, on October 21, 2021.
Jean M. Hardy,
Aviation Safety Inspector, Office of Safety Standards, General Aviation and Commercial Division, Training and Certification Group.

[FR Doc. 2021-23286 Filed 10-25-21; 8:45 am]

BILLING CODE 4910-13-P